DEPARTMENT OF EDUCATION

[CFDA No.: 84.293B]

Foreign Language Assistance Grants (Local Educational Agencies) Notice Inviting Applications for New Awards for Fiscal Year (FY) 2000

NOTE TO APPLICANTS: This notice is a complete application package. Together with the statute authorizing the program and applicable regulations governing the program, including the Education Department General Administrative Regulations (EDGAR), this notice contains all of the information, application forms, and instructions needed to apply for an award under this competition.

PURPOSE OF PROGRAM: This program provides grants to pay for the Federal share of the cost of innovative model programs providing for the establishment, improvement, or expansion of foreign language study for elementary and secondary school students.

In awarding grants under this program, the Secretary supports projects that—

(A) show the promise of being continued beyond their project period;

(B) demonstrate approaches that can be disseminated and duplicated in other local educational agencies; and

(C) may include a professional development component.

ELIGIBLE APPLICANTS: Local educational agencies.

APPLICATIONS AVAILABLE: February 2, 2000.

DEADLINE FOR TRANSMITTAL OF APPLICATIONS: March 20, 2000.

DEADLINE FOR INTERGOVERNMENTAL REVIEW: May 22, 2000.

AVAILABLE FUNDS: $1,420,000.

ESTIMATED RANGE OF AWARDS: $50,000-$175,000.

ESTIMATED AVERAGE SIZE OF AWARDS:

$112,500.

ESTIMATED NUMBER OF AWARDS: 12.

Note: The Department is not bound by any estimates in this notice.

PROJECT PERIOD: 36 months.

APPLICABLE REGULATIONS: (a) The Education Department General Administrative Regulations (EDGAR) in 34 CFR parts 75, 77, 79, 80, 81, 82, 85 and 86.

(b) 34 CFR part 299.

Description of Program

Part B of Title VII of the Elementary and Secondary Education Act of 1965, as amended (the Act), authorizes the Foreign Language Assistance Grants program. Appropriations for this program are authorized by section 7206 of the Act. Applicants should note that section 7203 (c)(1) provides that the Federal share of the cost of activities assisted under this part for each fiscal year is 50 percent. The Secretary may waive this requirement for any local educational agency which the Secretary determines does not have adequate resources to pay the non-Federal share of the cost of the activities assisted under this part. Section 7203(c)(3) of the Act provides that at least 75 percent of the funds appropriated under section 7206 must be used for the expansion of foreign language learning in elementary grades. The Secretary does not fund projects that propose Native American languages.

Priority

Under 34 CFR 75.105 (b)(2)(iv) and (c)(2)(i) and section 7204(b) of the Act (20 U.S.C. 7514(b)), the Secretary gives preference to applications that meet the following competitive priority. The Secretary awards three points depending on how well an application meets this competitive priority. These points would be in addition to any points the application earns under the selection criteria for the program.

Competitive Preference Priority—Special Considerations (3 points)

Projects that propose to carry out one or more of the following activities: (1) Intensive summer foreign language programs for professional development; (2) linking non-native English speakers in the community with the schools in order to promote two-way language learning; or (3) promoting the sequential study of a foreign language, beginning in elementary schools.

Selection Criteria

(a)(1) The Secretary uses the following selection criteria in 34 CFR 75.209 and 75.210 and section 7203 of the Act to evaluate applications for new grants under this competition.

(2) The maximum score for all of these criteria is 100 points.

(3) The maximum score for each criterion is indicated in parentheses.

(b)(1) Need for the project. (10 points)

The Secretary considers the need for the project. In determining the need for the proposed project, the Secretary considers the following factors:

(i) The magnitude of the need for the services to be provided or the activities to be carried out by the proposed project.

(ii) The extent to which specific gaps or weaknesses in services, infrastructure, or opportunities have been identified and will be addressed by the proposed project, including the nature and magnitude of those gaps or weaknesses.

(2) Significance. (20 points)

The Secretary reviews each application to determine how well the proposed project will implement foreign language instructional programs that will:

(i) Show the promise of being continued beyond the grant period; and

(ii) Demonstrate approaches that can be disseminated and duplicated in other local educational agencies.

(3) Quality of the project design. (25 points)

The Secretary considers the quality of the design of the proposed project. In determining the quality of the design of the proposed project, the Secretary considers the following factors:

(i) The extent to which the goals, objectives, and outcomes to be achieved by the proposed project are clearly specified and measurable.

(ii) The extent to which the design of the proposed project is appropriate to, and will successfully address, the needs of the target population or other identified needs.

(iii) The extent to which the design for implementing and evaluating the proposed project will result in information to guide possible replication of project activities or strategies, including information about the effectiveness of the approach or strategies employed by the project.

(4) Quality of Project Services (20 points)

(i) The Secretary considers the quality of services to be provided by the proposed project.

(ii) In determining the quality of the services to be provided by the proposed project, the Secretary considers the quality and sufficiency of strategies for ensuring equal access and treatment for eligible project participants who are members of groups that have traditionally been underrepresented based on race, color, national origin, gender, age, or disability.

(iii) In addition, the Secretary considers the following factors:

(A) The extent to which the services to be provided by the proposed project are appropriate to the needs of the intended recipients or beneficiaries of those services.

(B) The extent to which the services to be provided by the proposed project reflect up-to-date knowledge from research and effective practice.

(C) The likelihood that the services to be provided by the proposed project will lead to improvements in the achievement of students as measured against rigorous academic standards.

(5) Quality of Project Personnel. (10 points)

(i) The Secretary considers the quality of the key personnel who will carry out the proposed project.

(ii) In determining the quality of project personnel, the Secretary considers the extent to which the applicant encourages applications for employment from persons who are members of groups that have traditionally been underrepresented based on race, color, national origin, gender, age or disability.

(iii) In addition, the Secretary considers the following factors:

(A) The qualifications, including relevant training and experience, of the project director or principal investigator.

(B) The qualifications, including relevant training and experience, of key project personnel.

(6) Adequacy of resources. (4 points)

The Secretary considers the adequacy of resources for the project. In determining the adequacy of resources for the proposed project, the Secretary considers the following factors:

(i) The extent to which the budget is adequate to support the proposed project.

(ii) The extent to which the costs are reasonable in relation to the objectives, design, and potential significance of the proposed project.

(7) Quality of the management plan. (5 points)

The Secretary considers the quality of the management plan for the proposed project. In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(8) Quality of project evaluation plan. (6 points)

The Secretary considers the quality of the evaluation to be conducted of the proposed project. In determining the quality of the evaluation, the Secretary considers the following factors:

(i) The extent to which the methods of evaluation are thorough, feasible, and appropriate to the goals, objectives, and outcomes of the proposed project.

(ii) The extent to which the methods of evaluation will provide performance feedback and permit periodic assessment of progress toward achieving intended outcomes.

(iii) The extent to which the evaluation will provide guidance about effective strategies suitable for replication or testing in other settings.

Intergovernmental Review of Federal Programs

This program is subject to the requirements of Executive Order 12372 (Intergovernmental Review of Federal Programs) and the regulations in 34 CFR Part 79.

The objective of the Executive order is to foster an intergovernmental partnership and to strengthen federalism by relying on State and local processes for State and local government coordination and review of proposed Federal financial assistance.

Applicants must contact the appropriate State Single Point of Contact to find out about, and to comply with, the State's process under Executive order 12372. Applicants proposing to perform activities in more than one State should immediately contact the Single Point of Contact for each of those States and follow the procedure established in each State under the Executive order. If you want to know the name and address of any State Single Point of Contact (SPOC), see the list published in the Federal Register on April 28, 1999 (64 FR 22963) or; you may view the latest SPOC list on the OMB Web site at the following address: http://www.whitehouse.gov/omb/grants

In States that have not established a process or chosen a program for review, State, areawide, regional, and local entities may submit comments directly to the Department.

Any State Process Recommendation and other comments submitted by a State Single Point of Contact and any comments from State, areawide, regional, and local entities must be mailed or hand-delivered by the date indicated in this notice to the following address: The Secretary, E.O. 12372—CFDA# 84.293B, U.S. Department of Education, Room 6213, 400 Maryland Avenue, SW, Washington, DC 20202-0124.

Proof of mailing will be determined on the same basis as applications (see 34 CFR 75.102). Recommendations or comments may be hand-delivered until 4:30 p.m. (Eastern time) on the date indicated in this notice.

Please note that the above address is not the same address as the one to which the applicant submits its completed application. Do not send applications to the above address.

Instructions for Transmittal of Applications

(a) If an applicant wants to apply for a grant, the applicant must—

(1) Mail the original and two copies of the application on or before the deadline date to: U.S. Department of Education, Application Control Center, Attention: (CFDA# 84.293B), Washington, DC 20202-4725; or

(2) Hand deliver the original and two copies of the application by 4:30 p.m. (Eastern time) on or before the deadline date to: U.S. Department of Education, Application Control Center, Attention: (CFDA# 84.293B), Room #3633, Regional Office Building #3, 7th and D Streets, SW, Washington, DC.

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c) If an application is mailed through the U.S. Postal Service, the Secretary does not accept either of the following as proof of mailing:

(1) A private metered postmark.

(2) A mail receipt that is not dated by the U.S. Postal Service.

Notes: (1) The U.S. Postal Service does not uniformly provide a dated postmark. Before relying on this method, an applicant should check with its local post office.

(2) The Application Control Center will mail a Grant Application Receipt Acknowledgment to each applicant. If an applicant fails to receive the notification of application receipt within 15 days from the date of mailing the application, the applicant should call the U.S. Department of Education Application Control Center at (202) 708-9495.

(3) The applicant must indicate on the envelope and—if not provided by the Department—in Item 10 of the Application for Federal Assistance (Standard Form 424) the CFDA number—and suffix letter, if any—of the competition under which the application is being submitted.

Application Instructions and Forms

The appendix to this application is divided into three parts plus a statement regarding estimated public reporting burden, guidance on addressing the EDGAR selection criteria, and various assurances, certifications, and required documentation. These parts and additional materials are organized in the same manner that the submitted application should be organized. The parts and additional materials are as follows:

Part I: Application for Federal Assistance (ED 424) and instructions.

Part II: Budget Information—Non-Construction Programs (ED Form No. 524) and instructions.

Part III: Application Narrative.

Additional Materials

a. Estimated Public Reporting Burden.

b. Part B of Title VII of the Elementary and Secondary Education Act of 1965, as amended (the Act).

c. Program Questions and Answers.

d. Group Application Certification.

e. Student Data.

f. Project Documentation Form, including: Section I—Documentation of consultation with nonprofit private school officials; Section II—Appropriate box checked.

g. Assurances—Non-Construction Programs (Standard Form 424B) and instructions.

h. Certifications Regarding Lobbying; Debarment, Suspension, and Other Responsibility Matters; and Drug-Free Workplace Requirements (ED 80-0013) and instructions.

i. Certification Regarding Debarment, Suspension, Ineligibility and Voluntary Exclusion: Lower Tier Covered Transactions (ED 80-0014, 9/90) and instructions. (NOTE: ED 80-0014 is intended for the use of grantees and should not be transmitted to the Department).

j. Disclosure of Lobbying Activities (Standard Form LLL) (if applicable) and instructions. This document has been marked to reflect statutory changes. See the notice published in the Federal Register at (61 FR 1413) by the Office of Management and Budget on January 19, 1996).

k. Notice to All Applicants concerning a new provision in the Department of Education's General Education Provisions Act (GEPA).

An applicant may submit information on a photostatic copy of the application and budget forms, the assurances, and the certifications. However, the application form, the assurances, and the certifications must each have an original signature.

All applicants must submit ONE original signed application, including ink signatures on all forms and assurances, and TWO copies of the application. Please mark each application as “original” or “copy”. No grant may be awarded unless a completed application form has been received.

FOR FURTHER INFORMATION CONTACT: Rebecca Richey, U.S. Department of Education, 400 Maryland Avenue, SW, Room 5616, Switzer Building, Washington, DC 20202-6510. Telephone (202) 205-9717. Margarita Ackley, U.S. Department of Education, 400 Maryland Avenue, SW, Room 5611, Switzer Building, Washington DC 20202-6510. Telephone: (202) 205-0506. Individuals who use a telecommunications device for the deaf (TDD) may call the Federal Information Relay Service (FIRS) at 1-800-877-8339 between 8 a.m. and 8 p.m., Eastern time, Monday through Friday.

Individuals with disabilities may obtain this notice in an alternate format (e.g., Braille, large print, audiotape, or computer diskette) on request to the contact persons listed in the preceding paragraph. Please note, however, that the Department is not able to reproduce in an alternate format the standard forms included in the notice.

Electronic Access to This Document

Anyone may view this document, as well as all other Department of Education documents published in the Federal Register, in text or portable document format (pdf) on the World Wide Web at either of the following sites:

http://ocfo.ed.gov/fedreg.htm

http://www.ed.gov/news.html

To use the pdf you must have the Adobe Acrobat Reader Program with search, which is available free at either of the preceding sites. If you have questions about using the pdf, call the U.S. Government Printing Office toll free at 1-800-293-6498; or in the Washington, DC area at (202) 512-1530.

Note: The official version of this document is the document published in the Federal Register. Free Internet access to the official edition of the Federal Register and the Code Federal Regulations is available on GPO Access at: http://www.access.gpo.gov/nara/index.html

Program Authority: 20 U.S.C. 7511-7514.

Art Love,
Acting Director, Office of Bilingual Education and Minority Languages Affairs.

BILLING CODE 4001-01-P

BILLING CODE 4000-01-C

Application Narrative Instructions

Mandatory Page Limit for the Application Narrative

The narrative is the section of the application where you address the selection criteria used by reviewers ini evaluating the application. You must limit the narrative to the equivalent of no more than 35 pages, using the following standards:

(1) A page is 8.5″ × 11″, on one side only with 1″ margins at the top, bottom and both sides.

(2) You must double space (no more than three lines per vertical inch) all text in the application narrative, including titles, headings, footnotes, quotations, references, and captions, as well as all text in charts, tables, figures, and graphs.

If you use a proportional computer font, you may not use a font smaller than a 12-point font. If you use a non-proportional font or a typewriter, you may not use more than 12 characters per inch.

The page limit does not apply to the Application for Federal Education Assistance Form (ED 424); the Budget Information Form (ED 524) and attached itemization of costs; the other application forms and attachments to those forms; the assurances and certifications; or the one-page abstract and table of contents described below.

If, in order to meet the page limit, you use print size, spacing, or margins smaller than standards specified in this notice, your application will not be considered for funding.

Additional Guidance

Abstract

The narrative section should be preceded by a one-page abstract that includes a short description of the population to be served by the project, project objectives, and planned project activities.

Table of Contents

The application should include a table of contents listing the parts of the narrative in the order of the selection criteria. Be sure that the table includes the page numbers where the parts of the narrative are found.

Budget

Budget line items must support the goals and objectives of the proposed project and must be directly related to the instructional design and all other project components.

Selection Criteria

The narrative should address fully all aspects of the selection criteria in the order listed and should give detailed information regarding each criterion. Do not simply paraphrase the criteria. Do not include resumes or curriculum vitae for project personnel; provide position descriptions instead. Do not include bibliographies, letters of support, or appendices in your application.

Final Application Preparation

Submit three copies of the application, including an original copy containing an original signature for each form requiring the signature of the authorized representative. Do not use elaborate bindings or covers. The application package must be mailed or hand-delivered to the Application Control Center (ACC) and postmarked by the deadline date.

Estimated Burden Statement

According to the Paperwork Reduction Act of 1995, no persons are required to respond to a collection of information unless such collection displays a valid OMB control number. The valid OMB control number for this information collection is 1885-0540 (Exp. 12/31/2001). The time required to complete this information collection is estimated to average 80 hours per response, including the time to review instructions, search existing data resources, gather the data needed, and complete and review the information collection. If you have any comments concerning the accuracy of the time estimate(s) or suggestions for improving this form, please write to: U.S. Department of Education, Washington, DC 20202-4651.

If yo uhave comments or concerns regarding the status of your individual submission of this form, write directly to: Office of Bilingual Education and Minority Languages Affairs, U.S. Department of Education, 400 Maryland Avenue, SW., Room 5603, Switzer Building, Washington, DC 20202-6510.

Foreign Language Assistance Program

Grants of Local Educational Agencies

(Program Questions and Answers)

Q. How will the Secretary comply with the statutory requirement, set out in Section 7204(b) of the Elementary and Secondary Education Act, to give special consideration to applications that describe programs that (1) include intensive summer foreign language programs for professional development; (2) link non-native English speakers in the community; or (3) promote the sequential study of a foreign language for students, beginning in elementary schools?

A. The Secretary has established a competitive priority to comply with this statutory requirement. Under that priority, the Secretary awards three additional points to applications that propose to carry out or more of the activities specified in Section 7204(b) of the Act in a particularly effective way. These points would be in addition to any points the application earns under the Selection Criteria. This priority is set out in full in the Application Notice.

Q. How can an applicant promote two-way language learning?

A. Two-way language learning is promoted through encouraging intersaction between non-native English speakers and foreign language learners in an instructional setting for purposes of facilitating foreign language acquisition. Although improvement of the English language skills of non-native English speakers is a desirable ancillary benefit of a project that utilizes two-way language learning, the primary focus of projects funded under the Foreign Language Assistance program must be on foreign language learning. As a consequence, funds received under the Foreign Language Assistance program should not be used to fund English language instruction.

Q. What is the definition of “elementary school” or “secondary school”?

A. The definitions of these two terms are set out in 34 CFR 77.1(c). The term “elementary school” means: “a day or residential school that provides elementary education, as determined under State law.” The term “secondary school” means: “a day or residential school that provides secondary education as determined under State law. In the absence of State law, the Secretary may determine, with respect to that State, whether the term includes education beyond the twelfth grade.”

Q. What is the State or LEA's share of costs for the Foreign Language Assistance program for each fiscal year?

A. The State or LEA's share is 50 percent. However, a waiver may be granted for an LEA if the Secretary determines that the LEA does not have adequate resources to pay the non-Federal share of the cost of the activities. (Section 7203(c), 20 U.S.C. 7513(c)). The Education Department General Administrative Regulations, at 34 CFR 80.24, also addresses Federal Cost sharing requirements.

Q. How does an LEA apply for a waiver of the non-Federal share of costs?

A. The Secretary suggests that local educational agencies—wishing to do so—request a waiver from the requirements of Section 7203(c) of the Act as a part of their grant application. This waiver request should include information that will assist the Secretary in determining whether the local educational agency seeking a waiver “does not have adequate resources to pay the non-Federal share of the costs of the activities assisted under [the Foreign Language Assistance program].” (Section 7203(b) of the Act, 20 U.S.C. 7513(c)(2)).

Q. Under this program, may an applicant propose to hire foreign language teachers?

A. Yes, program funds may be used to hire foreign language teachers.

Q. May two districts apply together if they are already working together in an elementary school foreign language program?

A. Yes, the statute does not prohibit school districts from applying together. The requirements on group applications are in 34 CFR 75.127-75.129.

Q. How can an LEA ensure that their proposed program design will lead to an enhanced and effective foreign language program?

A. An LEA may consider the National and State foreign language content standards when designing their program.

BILLING CODE 4000-01-P

Project Documentation

Note: Submit the appropriate documents and information as specified below for the following programs:

Foreign Language Assistance Grant

Section I

Evidence of compliance with the Federal requirements for participation of students enrolled in nonprofit private schools. (See section 7116(h)(2) of Public Law 103-382 and 34 CFR 75.119, 76.652, and 76.656 below.) Sec. 7116. Applications. “(2) in designing the program for which application is made, the needs of children in nonprofit private elementary and secondary schools have been taken into account through consultation with appropriate private school officials and, consistent with the number of such children enrolled in such schools in the area to be served whose educational needs are of the type and whose language and grade levels are of a similar type to those which the programs is intended to address, after consultation with appropriate private school officials, provision has been made for the participation of such children on a basis comparable to that provided for public school children.”

(Authority: 20 U.S.C. 7426(h)(2))

Section 75.119 Information Needed if Private Schools Pargicipate

If a program requires the applicant to provide an opportunity for participation of students enrolled in private schools, the application must include the information required of subgrantees under 34 CFR 76.656. (Approved by the Office of Management and Budget under control number 1880-0513.)

(Authority: 20 U.S.C. 1221e-3(a)(1))

Section 76-652 Consultation With Representatives of Private School Students

(a) An applicant for a subgrant shall consult with appropriate representatives of students enrolled in private schools during all phases of the development and design of the project covered by the application, including consideration of:

(1) Which children will receive benefits under the project;

(2) How the children's needs will be identified;

(3) What benefits will be provided;

(4) How the benefits will be provided; and

(5) How the project will be evaluated.

(b) A subgrantee shall consult with appropriate representatives of students enrolled in private schools before the subgrantee makes any decision that affects the opportunities of those students to participate in the project.

(c) The applicant or subgrantee shall give the appropriate representatives a genuine opportunity to express their views regarding each matter subject to the consultation requirements in this section.

(Authority: 20 U.S.C. 1221e-3(a)(1))

76.656 Information in an Application for a Subgrant

An applicant for a subgrant shall include the following information in its application:

(a) A description of how the applicant will meet the Federal requirements for participation of students enrolled in private schools.

(b) The number of students enrolled in private schools who have been identified as eligible to benefit under the program.

(c) The number of students enrolled in private schools who will receive benefits under the program.

(d) The basis the applicant used to select the students.

(e) The manner and extent to which the applicant complied with § 76.652 (consultation).

(f) The places and times that the students will receive benefits under the program.

(g) The differences, if any, between the program benefits the applicant will provide to public and private school students, and the reasons for the differences.

(Authority: 20 U.S.C. 1221e-3(a)(1))

BILLING CODE 4000-01-P

[FR Doc. 00-2162 Filed 2-1-00; 8:45 am]

BILLING CODE 4000-01-C